POSTAL REGULATORY COMMISSION

[Docket No. R2012-2; Order No. 913]

New Postal Product

AGENCY: Postal Regulatory Commission.

ACTION: Notice.

SUMMARY: The Commission is noticing a recently filed Postal Service request to include a bilateral agreement with Australia Post in the Inbound Market Dominant Multi-Service Agreements with Foreign Postal Operators 1 product offering. This document invites public comments on the request and addresses several related procedural steps.

DATES: Comments are due: October 27, 2011, 4:30 p.m. eastern time.

ADDRESSES: Submit comments electronically by accessing the “Filing Online” link in the banner at the top of the Commission's Web site (http://www.prc.gov) or by directly accessing the Commission's Filing Online system at https://www.prc.gov/prc-pages/filing-online/login.aspx. Commenters who cannot submit their views electronically should contact the person identified in the FOR FURTHER INFORMATION CONTACT section as the source for case-related information for advice on alternatives to electronic filing.

FOR FURTHER INFORMATION CONTACT: Stephen L. Sharfman, General Counsel, at 202-789-6820 (case-related information) or DocketAdmins@prc.gov (electronic filing assistance).

SUPPLEMENTARY INFORMATION:

I. Introduction

II. Notice of Filing

III. Ordering Paragraphs

I. Introduction

On October 14, 2011, the Postal Service filed a notice, pursuant to 39 CFR 3010.40 et seq., that it has entered into a bilateral agreement with Australian Postal Corporation (Australia Post), which it seeks to include in the Inbound Market Dominant Multi-Service Agreements with Foreign Postal Operators 1 product.¹ The Australia Post Agreement establishes new rates for inbound letter post items in place of default Universal Postal Union rates, as well as an ancillary service for delivery confirmation scanning for inbound letter post small packets. The Postal Service contends that the instant Agreement is functionally equivalent to several agreements included within the Inbound Market Dominant Multi-Service Agreement with Foreign Postal Operators 1 product. Notice at 7-8.

¹ Notice of United States Postal Service of Type 2 Rate Adjustment, and Notice of Filing Functionally Equivalent Agreement, October 14, 2011 (Notice); see also Docket Nos. MC2010-35, R2010-5 and R2010-6, Order Adding Inbound Market Dominant Multi-Service Agreements with Foreign Postal Operators 1 to the Market Dominant Product List and Approving Included Agreements, September 30, 2010 (Order No. 549).

In support of its Notice, the Postal Service filed two attachments as follows:

• Attachment 1—an application for non-public treatment of materials to maintain redacted portions of the agreement and supporting documents under seal; and

• Attachment 2—a redacted copy of the Australia Post Agreement.

The Postal Service also provided a redacted version of the supporting financial documentation as a separate Excel file.

Australia Post Agreement. The Postal Service filed the instant Agreement pursuant to 39 CFR 3010.40 et seq. The Postal Service states that the proposed inbound market dominant rates are intended to become effective on January 1, 2012. Id. at 2. The Australia Post Agreement provides that it becomes effective after all regulatory approvals have been received, mutual notification of such approvals, and mutual agreement on an effective date. Id. Attachment 2 at 1. The Agreement, however, may be terminated by either party on no less than 30 days' written notice. Id. at 3. The Postal Service and Australia Post, the postal operator for Australia, are parties to the Agreement. The portions of the Agreement at issue in this docket cover inbound letter post in the form of Letters, Flats, Small Packets, Registered Mail, and Small Packets with Delivery Scanning. Id. at 9.²

² Notice at 5-6. The Agreement also covers competitive products such as M-Bags, parcels, and Express Mail. See Docket No. CP2012-1, Notice of United States Postal Service of Filing Functionally Equivalent Inbound Competitive Multi-Service Agreement with a Foreign Postal Operator, October 17, 2011.

Requirements under part 3010. The Postal Service states that the financial performance of the Australia Post Agreement is provided in the Excel file included with the filing. Notice at 1-2. It contends that improvements should enhance mail efficiency and other functions for letter post items under the Agreement. Id. at 4.

The Postal Service asserts that the instant Agreement should not cause unreasonable harm in the marketplace since it is unaware of any significant competition in this market. Id. at 4-5.

Under 39 CFR 3010.43, the Postal Service is required to submit a data collection plan. The Postal Service indicates that it intends to report information on this Agreement through its Annual Compliance Report. While indicating its willingness to provide information on mailflows within the annual compliance review process, the Postal Service proposes no special data collection plan for this Agreement. With respect to performance measurement, it requests that the Commission exempt this Agreement from separate reporting requirements under 39 CFR 3055.3 and establish a standing exemption to performance reporting requirements for all contracts added to the product Inbound Market Dominant Multi-Service Agreements with Foreign Postal Operators. Id. at 6, 10.

The Postal Service advances reasons why the Agreement is functionally equivalent to previously filed agreements.³ It asserts that the instant Agreement fits within the Mail Classification Schedule language for the Inbound Multi-Service Agreements with the Foreign Postal Operators 1 product. Additionally, it states that the Australian Post Agreement includes similar terms and conditions, e.g., is with a foreign postal operator, conforms to a common description, and relates to rates for letter post tendered from the postal operator's territory. Notice at 8.

³ Id. at 7-9. It cites the following orders: Order No. 549; Docket No. R2011-4, Order No. 700, Order Approving Rate Adjustment for HongKong Post—United States Postal Service Letter Post Bilateral Agreement Negotiated Service Agreement, March 18, 2011; Docket No. R2011-7, Order No. 871, Order Concerning an Additional Inbound Competitive Multi-Service Agreements with Foreign Postal Operators 1 Negotiated Service Agreement, September 23, 2011. See id. at 1 n.1.

The Postal Service identifies a specific term, Article 22, which refers to the duration of the Agreement, that distinguishes the instant Agreement from the existing China Post Agreement (Docket No. R2010-6). This distinction is the duration that the Agreement will be in effect. Id. at 8-9. The Postal Service contends that the instant Agreement is nonetheless functionally equivalent to existing agreements. Id. at 9.

In its Notice, the Postal Service maintains that certain portions of the agreement, prices, and related financial information should remain under seal. Id. at 10; id. Attachment 1.

The Postal Service concludes that the Australian Post Agreement should be added as a functionally equivalent agreement under the Inbound Market Dominant Multi-Service Agreements with Foreign Postal Operators 1 product. Notice at 10.

II. Notice of Filing

Interested persons may submit comments on whether the Postal Service's filing in the captioned docket is consistent with the policies of 39 U.S.C. 3622 and 39 CFR 3010.40. Under rule 3010.44(a)(5), comments on the Postal Service's filing would be due October 24, 2011, 10 days after the filing of the Postal Service's Notice. Recognizing that rates under the instant Agreement are scheduled to become effective January 1, 2012, the Commission will establish October 27, 2011 as the due date for comments. The public portions of these filings can be accessed via the Commission's Web site (http://www.prc.gov).

The Commission appoints James F. Callow to serve as Public Representative in this docket.

III. Ordering Paragraphs

It is ordered:

1. The Commission establishes Docket No. R2012-2 to consider matters raised by the Postal Service's notice.

2. Pursuant to 39 U.S.C. 505, James F. Callow is appointed to serve as officer of the Commission (Public Representative) to represent the interests of the general public in this proceeding.

3. Comments by interested persons in this proceeding are due no later than October 27, 2011.

4. The Secretary shall arrange for publication of this order in the Federal Register.

By the Commission.
Shoshana M. Grove,
Secretary.

[FR Doc. 2011-27814 Filed 10-26-11; 8:45 am]

BILLING CODE 7710-FW-P